DEPARTMENT OF HOMELAND SECURITY

Federal Emergency Management Agency

[Docket ID FEMA-2014-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of June 9, 2014 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and ninety (90) days have elapsed since that publication. The Deputy Associate Adminstrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov. The flood hazard determinations are made final in the watersheds and/or communities listed in the table below.

Community | Community map repository address
Solano County, California, and Incorporated Areas
Docket No.: FEMA-B-1300
City of Vallejo | Public Works, 555 Santa Clara Street, Vallejo, CA 94590.
Unincorporated Areas of Solano County | Public Works Department, 675 Texas Street, Suite 5500, Fairfield, CA 94533.
Madison County, Indiana, and Incorporated Areas
Docket No.: FEMA-B-1281
City of Anderson | City Hall, 120 East Eighth Street, Anderson, IN 46016.
Town of Chesterfield | Town Hall, 17 Veterans Boulevard, Chesterfield, IN 46017.
Town of Ingalls | Town Hall, 227 North Swain Street, Ingalls, IN 46048.
Town of Pendleton | Town Hall, 100 West State Street, Pendleton, IN 46064.
Unincorporated Areas of Madison County | Madison County Government Center, 16 East 9th Street, Room 200, Anderson, IN 46016.
Scott County, Indiana, and Incorporated Areas
Docket No.: FEMA-B-1292
City of Austin | City Hall, 80 West Main Street, Austin, IN 47102.
City of Scottsburg | Scott County Area Plan Commission, 1 East McClain Avenue, Suite G40, Scottsburg, IN 47170.
Unincorporated Areas of Scott County | Scott County Area Plan Commission, 1 East McClain Avenue, Suite G40, Scottsburg, IN 47170.
Tipton County, Indiana, and Incorporated Areas
Docket No.: FEMA-B-1270
City of Tipton | Tipton County Courthouse, 101 East Jefferson Street, Tipton, IN 46072.
Town of Sharpsville | Town Hall, 124 South Main Street, Sharpsville, IN 46068.
Town of Windfall | Town Hall, 210 South Independence Street, Windfall, IN 46076.
Unincorporated Areas of Tipton County | Tipton County Courthouse, 101 East Jefferson Street, Tipton, IN 46072.
Nantucket County, Massachusetts (All Jurisdictions)
Docket No.: FEMA-B-1275
Town of Nantucket | Town Hall, 16 Broad Street, Nantucket, MA 02554.
Norfolk County, Massachusetts (All Jurisdictions)
Docket No.: FEMA-B-1283
City of Quincy | City Hall, 1305 Hancock Street, Quincy, MA 02619.
Town of Milton | Town Office Building, 525 Canton Avenue, Milton, MA 02186.
Kent County, Maryland, and Incorporated Areas
Docket No.: FEMA-B-1299
Town of Betterton | Town Office, 100 Main Street, Betterton, MD 21610.
Town of Chestertown | Town Office, 118 North Cross Street, Chestertown, MD 21620.
Town of Millington | Town Office, 402 Cypress Street, Millington, MD 21651.
Town of Rock Hall | Municipal Building, 5585 Main Street, Rock Hall, MD 21661.
Unincorporated Areas of Kent County | Kent County Government Center, 400 High Street, Chestertown, MD 21620.
Rankin County, Mississippi, and Incorporated Areas
Docket No.: FEMA-B-1272
City of Brandon | City Hall, 1000 Municipal Drive, Brandon, MS 39042.
City of Florence | City Hall, 203 College Street, Florence, MS 39073.
City of Flowood | City Hall, 2101 North Airport Road, Flowood, MS 39232.
City of Jackson | Department of Public Works, 200 South President Street, Jackson, MS 39205.
City of Pearl | City Hall, 2420 Old Brandon Road, Pearl, MS 39208.
City of Richland | City Hall, 380 Scarborough Street, Richland, MS 38218.
Pearl River Valley Water Supply District | Pearl River Valley Water Supply District, 115 Madison Landing Circle, Ridgeland, MS 39157.
Town of Pelahatchie | Town Hall, 705 2nd Street, Pelahatchie, MS 39145.
Township of Puckett | Town Hall, 6449 Highway 18, Puckett, MS 39042.
Unincorporated Areas of Rankin County | Rankin County Courthouse, 211 East Government Street, Brandon, MS 39042.
Harris County, Texas, and Incorporated Areas
Docket No.: FEMA-B-1284
City of Houston | Floodplain Management Office, 1002 Washington Avenue, 3rd Floor, Houston, TX 77002.
City of Humble | City Permit Department, 114 West Higgins Street, Humble, TX 77338.
City of Jersey Village | Public Works Department, 16501 Jersey Drive, Jersey Village, TX 77040.
Unincorporated Areas of Harris County | Harris County PID, A&E Division, Permit Office, 10555 Northwest Freeway, Suite 120, Houston, TX 77092.

(Catalog of Federal Domestic Assistance No. 97.022, “Flood Insurance.”)

Date: January 31, 2014.
Roy E. Wright,
Deputy Associate Administrator for Mitigation, Department of Homeland Security, Federal Emergency Management Agency.

[FR Doc. 2014-06096 Filed 3-19-14; 8:45 am]

BILLING CODE 9110-12-P